DEPARTMENT OF THE INTERIOR

National Park Service

[NPS-WASO-NAGPRA-12405; PCU00RP14.R50000-PPWOCRADN0]

Notice of Intent To Repatriate a Cultural Item: U.S. Department of the Interior, National Park Service, Natchez Trace Parkway, Tupelo, MS

AGENCY: National Park Service, Interior.

ACTION: Notice.

SUMMARY: The U.S. Department of the Interior, National Park Service, Natchez Trace Parkway, in consultation with the appropriate Indian tribes, has determined that a cultural item meets the definition of unassociated funerary object and repatriation to the Indian tribe stated below may occur if no additional claimants come forward. Representatives of any Indian tribe that believes itself to be culturally affiliated with the cultural item may contact Natchez Trace Parkway.

DATES: Representatives of any Indian tribe that believes it has a cultural affiliation with the cultural item should contact Natchez Trace Parkway at the address below by April 29, 2013.

ADDRESSES: Dale Wilkerson, Acting Superintendent, Natchez Trace Parkway, 2680 Natchez Trace Parkway, Tupelo, MS, 38803, telephone (662) 680-4005.

SUPPLEMENTARY INFORMATION: Notice is here given in accordance with the Native American Graves Protection and Repatriation Act (NAGPRA), 25 U.S.C. 3005, of the intent to repatriate a cultural item in the possession of the U.S. Department of the Interior, National Park Service, Natchez Trace Parkway, Tupelo, MS that meets the definition of unassociated funerary object under 25 U.S.C. 3001.

This notice is published as part of the National Park Service's administrative responsibilities under NAGPRA, 25 U.S.C. 3003(d)(3). The determinations in this notice are the sole responsibility of the Superintendent, Natchez Trace Parkway.

History and Description of the Cultural Item

In 1972, a funerary object was removed from the Emerald Mound site in Adams County, MS, during legally authorized excavation projects. The whereabouts of the human remains are unknown, and it is not clear from excavation documentation if the remains were excavated. The one unassociated funerary object is an Addis Plain vessel.

The Emerald Mound site consists of two mounds and a plaza area. On the basis of artifacts recovered during excavation, the site was occupied during the late precontact phase of the Mississippian period (A.D. 1200-1650, or later). Ceramic types that have been historically associated with the Natchez Indians were found throughout the site. Mound construction and burial practices at the site were also consistent with those of the Natchez Indians.

Historical evidence indicates the dispersal of the Natchez Indians into Cherokee, Chickasaw, and Creek tribal groups. In 1542, Hernando de Soto's expedition heard of, and later encountered hostile Indians along the lower Mississippi River believed to have been the Natchez and their allies. In 1682, the de La Salle expedition specifically identified the Natchez as living along the banks of the lower Mississippi River. Following an unsuccessful rebellion against the French in 1729, the Natchez were dispersed. About 400 individuals surrendered to the French and were sent to the West Indies as slaves. The remaining Natchez withdrew among the Chickasaw and ultimately separated into two main bands, one settling among the Upper Creeks and the other uniting with the Cherokee. The Natchez language was still spoken by some in the Creek Nation until the early 20th century and by some among the Cherokee until the 1940s. Given territorial proximity and complexities of modern Cherokee tribal alignments in Oklahoma, both the Cherokee Nation and the United Keetoowah Band of Cherokee Indians are likely to include tribal members of Natchez descent.

Determinations Made by Natchez Trace Parkway

Officials of Natchez Trace Parkway have determined that:

• Pursuant to 25 U.S.C. 3001(3)(B), the cultural item described above is reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary object and the Cherokee Nation; Chickasaw Nation; The Muscogee (Creek) Nation; and United Keetoowah Band of Cherokee Indians in Oklahoma.

Additional Requestors and Disposition

Representatives of any other Indian tribe that believes itself to be culturally affiliated with the unassociated funerary object should contact Dale Wilkerson, Acting Superintendent, Natchez Trace Parkway, 2680 Natchez Trace Parkway, Tupelo, MS 38803, telephone (662) 680-4005, before April 29, 2013. Repatriation of the unassociated funerary object to the Cherokee Nation; Chickasaw Nation; The Muscogee (Creek) Nation; and United Keetoowah Band of Cherokee Indians in Oklahoma may proceed after that date if no additional claimants come forward.

Natchez Trace Parkway is responsible for notifying the Cherokee Nation; Chickasaw Nation; The Muscogee (Creek) Nation; and United Keetoowah Band of Cherokee Indians in Oklahoma that this notice has been published.

Dated: February 21, 2013.
Mariah Soriano,
Acting Manager, National NAGPRA Program.

[FR Doc. 2013-07374 Filed 3-28-13; 8:45 am]

BILLING CODE 4312-50-P